NATIONAL TRANSPORTATION SAFETY BOARD

Sunshine Act Meeting

Agenda

Time and Date: 9:30 a.m., Thursday, November 8, 2007.

Place: NTSB Conference Center, 429 L'Enfant Plaza, SW., Washington, DC 20594.

Status: The one item is open to the public.

Matter to be Considered: 5299Z Most Wanted Transportation Safety Improvements—November 2007 Progress Report and Update on Federal Issues.

News Media Contact: Telephone: (202) 316-6100.

Individuals requesting specific accommodations should contact Chris Bisett at (202) 314-6305 by Friday, November 2, 2007.

The public may view the meeting via a live or archived webcast by accessing a link under “News & Events” on the NTSB home page at www.ntsb.gov.

FOR FURTHER INFORMATION CONTACT: Vicky D'Onofrio, (202) 314-6410.

Dated: October 26, 2007.
Vicky D'Onofrio,
Federal Register Liaison Officer.

[FR Doc. 07-5411 Filed 10-26-07; 1:33 pm]

BILLING CODE 7533-01-M